DEPARTMENT OF STATE

[Public Notice 5513]

Announcement of Meetings of the International Telecommunication Advisory Committee

Summary:

The International Telecommunication Advisory Committee will meet on September 26, 2006 at 10 am to prepare positions for the next meeting of the Inter-American Telecommunication Commission (CITEL) Permanent Consultative Committee II (PCCII) October 17-20, 2006 in Caracas, Venezuela. Members of the public will be admitted to the extent that seating is available, and may join in the discussions, subject to the instructions of the Chair.

The International Telecommunication Advisory Committee (ITAC) will meet on September 26, 2006 at 10 a.m.; the meeting location has not yet been established. The meeting will review contributions to the forthcoming CITEL PCCII meeting as well as discuss reports on the World Radiocommunication Conference. Information on the meeting location and conference bridge information may be obtained by calling the ITAC Secretariat at 202 647-3234.

Dated: August 29, 2006.
Anne Jillson,
Foreign Affairs Officer, International Communications & Information Policy, Department of State.

[FR Doc. E6-14646 Filed 9-1-06; 8:45 am]

BILLING CODE 4710-07-P